FEDERAL ELECTION COMMISSION

Sunshine Act Notice

AGENCY: Federal Election Commission.

Federal Register Citation of Previous Announcement—76 FR 45798 (August 1, 2011)

DATE AND TIME: Thursday, August 4, 2011, at 10 a.m.

PLACE: 999 E Street, NW., Washington, DC (Ninth Floor).

STATUS: Meeting open to the public.

CHANGES IN THE MEETING: The following item was withdrawn from the agenda: Audit Division Recommendation Memorandum on Nader for President (2008) (NFP).

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-20106 Filed 8-4-11; 11:15 am]

BILLING CODE 6715-01-P